DEPARTMENT OF THE TREASURY

United States Mint

Pricing for 2012 Annual Sets and America the Beautiful Quarters® Bags & Rolls

AGENCY: United States Mint, Department of the Treasury.

ACTION: Notice.

SUMMARY: The United States Mint is announcing 2012 pricing for annual sets and the America the Beautiful Quarters® Bags and Rolls. Please see the table below.

Product | Retail Price
2012 United States Mint Proof Set® | $31.95
2012 United States Mint Silver Proof Set® | 67.95
2012 United States Mint Uncirculated Coin Set® | 27.95
2012 United States Mint America the Beautiful Quarters Proof Set™ | 14.95
2012 United States Mint America the Beautiful Quarters Silver Proof Set™ | 41.95
America the Beautiful Quarters® Bags | 34.95
America the Beautiful Quarters® Rolls | 32.95

FOR FURTHER INFORMATION CONTACT: B. B. Craig, Associate Director for Sales and Marketing; United States Mint; 801 9th Street NW., Washington, DC 20220; or call (202) 354-7500.

Authority: 31 U.S.C. §§ 5111, 5112 & 9701.

Dated: January 13, 2012.
Richard A. Peterson,
Deputy Director, United States Mint.

[FR Doc. 2012-1024 Filed 1-19-12; 8:45 am]

BILLING CODE P